NUCLEAR REGULATORY COMMISSION

[NRC-2019-0239]

Information Collection: NRC CUI Program Challenge Request Process

AGENCY: Nuclear Regulatory Commission.

ACTION: Notice of submission to the Office of Management and Budget; request for comment.

SUMMARY: The U.S. Nuclear Regulatory Commission (NRC) has recently submitted a proposed collection of information to the Office of Management and Budget (OMB) for review. The information collection is entitled, “NRC CUI Program Challenge Request Process.”

DATES: Submit comments by September 16, 2020. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID NRC-2019-0239 when contacting the NRC about the availability of information for this action. You may obtain publicly-available information related to this action by any of the following methods:

• Federal Rulemaking Website: Go to https://www.regulations.gov and search for Docket ID NRC-2019-0239. A copy of the collection of information and related instructions may be obtained without charge by accessing Docket ID NRC-2019-0239 on this website.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. A copy of the collection of information and related instructions may be obtained without charge by accessing ADAMS Accession No. ML19317D847. The supporting statement and NRC Controlled Unclassified Information (CUI) Program Challenge Request Form is available in ADAMS under Accession No. ML20118D025.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a proposed collection of information to OMB for review entitled, “NRC CUI Program Challenge Request.” The NRC hereby informs potential respondents that an agency may not conduct or sponsor, and that a person is not required to respond to, a collection of information unless it displays a currently valid OMB control number.

The NRC published a Federal Register notice with a 60-day comment period on this information collection on April 17, 2020, 85 FR 21475.

1. The title of the information collection: NRC CUI Program Challenge Request.

2. OMB approval number: 3150-XXXX.

3. Type of submission: New.

4. The form number if applicable: N/A.

5. How often the collection is required or requested: On occasion.

6. Who will be required or asked to respond: Authorized holders, including any individual or organization who has been provided with CUI and has a lawful government purpose to possess CUI.

7. The estimated number of annual responses: 12.

8. The estimated number of annual respondents: 12.

9. An estimate of the total number of hours needed annually to comply with the information collection requirement or request: 18.

10. Abstract: The NRC CUI Program Challenge Request Process, also referred to as the “CUI Challenge Request Process” in this document, provides the process used for NRC CUI authorized holders to challenge the designation of information that has been marked as CUI as improperly or incorrectly designated. “Authorized holder” includes any individual or organization who has been provided with CUI and has a lawful government purpose to possess the information. Any authorized holder who believes that the designation of specific information as CUI is improper or incorrect, or who believes they have received unmarked CUI, may use this process to formally notify the NRC CUI Senior Agency Official (SAO). The process also allows for the NRC CUI SAO and CUI Program Manager to process such requests and to issue a Final Decision from the CUI SAO.

11. The CUI Challenge Request Process is not intended to be used to address all disagreements regarding the proper designation of CUI. Authorized holders are encouraged to seek or utilize less formal means when resolving internal good faith disputes over the proper designation of information as CUI, such as discussion with the creator or designator of the information in dispute. Where resolution cannot be achieved through less formal means, the CUI challenge request process is available.

The CUI Challenge Request Process does not supersede any obligations under law or NRC policy to report information spills.

Dated: August 12, 2020.
For the Nuclear Regulatory Commission.
David C. Cullison,
NRC Clearance Officer,Office of the Chief Information Officer.

[FR Doc. 2020-17932 Filed 8-14-20; 8:45 am]

BILLING CODE 7590-01-P